DEPARTMENT OF HEALTH AND HUMAN SERVICES

Food and Drug Administration

21 CFR Part 73

[Docket No. FDA-2018-C-4117]

Sensient Colors, LLC.; Filing of Color Additive Petition

AGENCY: Food and Drug Administration, HHS.

ACTION: Notification of petition.

SUMMARY: The Food and Drug Administration (FDA or we) is announcing that we have filed a petition, submitted by Sensient Colors, LLC., proposing that we amend our color additive regulations to provide for the safe use of butterfly pea flower extract in ready-to-eat cereals, crackers and snack mixes, and chips at levels consistent with good manufacturing practice.

DATES: The color additive petition was filed on December 5, 2023.

ADDRESSES: For access to the docket to read background documents or comments received, go to https://www.regulations.gov and insert the docket number found in brackets in the heading of this document into the “Search” box and follow the prompts, and/or go to the Dockets Management Staff, 5630 Fishers Lane, Rm. 1061, Rockville, MD 20852.

FOR FURTHER INFORMATION CONTACT: Stephen DiFranco, Center for Food Safety and Applied Nutrition, Food and Drug Administration, 5001 Campus Dr., College Park, MD 20740, 240-402-2710.

SUPPLEMENTARY INFORMATION: Under the Federal Food, Drug, and Cosmetic Act (section 721(d)(1) (21 U.S.C. 379e(d)(1))), we are giving notice that we have filed a color additive petition (CAP 4C0328), submitted by Exponent, Inc., on behalf of Sensient Colors, LLC., 1150 Connecticut Ave. NW, Suite 1100, Washington, DC 20036. The petition proposes to amend the color additive regulations in § 73.69 (21 CFR 73.69) Listing of Color Additives Exempt from Certification: Butterfly pea flower extract to expand the safe use of butterfly pea flower extract to include ready-to-eat cereals, crackers and snack mixes, and chips at levels consistent with good manufacturing practice.

The petitioner claims that this action is categorically excluded under 21 CFR 25.32(k) because the substance is intended to remain in food through ingestion by consumers and is not intended to replace macronutrients in food. In addition, the petitioner states that, to their knowledge, no extraordinary circumstances exist. If FDA determines a categorical exclusion applies, neither an environmental assessment nor an environmental impact statement is required. If FDA determines a categorical exclusion does not apply, we will request an environmental assessment and make it available for public inspection.

Dated: February 5, 2024.
Lauren K. Roth,
Associate Commissioner for Policy.

[FR Doc. 2024-02576 Filed 2-7-24; 8:45 am]

BILLING CODE 4164-01-P